DEPARTMENT OF HOMELAND SECURITY

Coast Guard

33 CFR Part 117

[Docket No. USCG-2022-0222]

RIN 1625-AA09

Drawbridge Operation Regulation; Okeechobee Waterway, Stuart, FL; Extension of Deviation

AGENCY: Coast Guard, Department of Homeland Security (DHS).

ACTION: Temporary final rule.

SUMMARY: The Coast Guard is extending the effective period for the temporarily modified operating schedule that governs the Florida East Coast Railroad Bridge, across the Okeechobee Waterway, mile 7.41, at Stuart, FL. This action allows for continuity in drawbridge operations while the Coast Guard evaluates documentation received for a request to permanently change the operating regulation. This temporary rule will be in place until September 30, 2025.

DATES: This temporary rule is effective 12:01 a.m. on June 1, 2025, through 11:59 p.m. on September 30, 2025.

ADDRESSES: To view documents mentioned in this preamble as being available in the docket, go to https://www.regulations.gov. Type the docket number USCG-2022-0222 in the “SEARCH” box and click “SEARCH”. In the Document Type column, select “Supporting & Related Material”.

FOR FURTHER INFORMATION CONTACT: If you have questions on this temporary rule, call or email Ms. Jennifer Zercher, Bridge Management Specialist, Seventh Coast Guard District; telephone 571-607-5951, email Jennifer.N.Zercher@uscg.mil.

SUPPLEMENTARY INFORMATION:

I. Table of Abbreviations

CFR Code of Federal Regulations

DHS Department of Homeland Security

FR Federal Register

NPRM Notice of proposed rulemaking

Pub. L. Public Law

§ Section

U.S.C. United States Code

FL Florida

TIR Temporary interim rule

FECR Florida East Coast Railway

FEC Florida East Coast

II. Background Information and Regulatory History

On August 7, 2024, the Coast Guard published a temporary interim rule (TIR) temporarily modifying the drawbridge operation regulation for the Florida East Coast Railroad Bridge, across the Okeechobee Waterway, mile 7.41, at Stuart, FL (89 FR 64367). The Coast Guard published the temporary rule to be effective through December 31, 2024. That action was necessary to allow for continuity of drawbridge operations while the Coast Guard evaluated documentation received for a request to permanently change the drawbridge operation regulation. Allowing the drawbridge to return to its regular operating schedule would not meet the reasonable needs of navigation given the increase in railway traffic.

On February 7, 2025, the Coast Guard published a TIR reinstating the temporarily modified drawbridge operation regulation for the Florida East Coast Railroad Bridge, across the Okeechobee Waterway, mile 7.41, at Stuart, FL (90 FR 9126). The Coast Guard reinstated the TIR to be effective through May 31, 2025. This action invited comments on the TIR while providing additional time to properly evaluate documentation associated with the permanent drawbridge operation regulation change request and maintain continuity in drawbridge operations. During the comment period that ended March 10, 2025, we received 22 comments. Those comments are under review and will be addressed in future regulatory actions.

On March 25, 2025, the Coast Guard published a notice of proposed rulemaking (NPRM) entitled “Drawbridge Operation Regulation; Okeechobee Waterway, mile 7.41, at Stuart, FL” in the Federal Register (90 FR 13573). There we stated why we issued the NPRM and invited comments on the proposed regulation. During the comment period that ended April 24, 2025, we received two comments. Those comments are under review and will be addressed in future regulatory actions.

The Seventh Coast Guard District Commander has determined the extension of the TIR is warranted as the temporary drawbridge operation regulation has provided predictable and reliable drawbridge openings.

The Coast Guard is issuing this temporary rule under the authority in 5 U.S.C. 553(b). This provision authorizes an agency to issue a rule without prior notice and opportunity to comment when the agency for good cause finds that those procedures are “impracticable, unnecessary, or contrary to the public interest.” Under 5 U.S.C. 553(b), the Coast Guard finds that good cause exists for not publishing an NPRM with respect to this rule because it is impracticable. We have not had sufficient time to adequately review and mitigate comments received from the TIR reinstatement and the NPRM. Allowing the drawbridge to return to its regular operating schedule would not meet the reasonable needs of navigation given the increase in railway traffic. The regular operating schedule does not provide predictable and reliable drawbridge openings. The existing TIR ends on May 31, 2025. For these reasons, it is impracticable for us to issue a proposed rule to extend the temporary deviation before May 31, 2025.

Under 5 U.S.C. 553(d)(3), the Coast Guard finds that good cause exists for making it effective in less than 30 days after publication in the Federal Register. For reasons presented above, delaying the effective date of this rule would be impracticable and contrary to the public interest due to the fact that the bridge's regular operating schedule does not meet the reasonable needs of navigation and does not provide predictable and reliable drawbridge openings.

III. Legal Authority and Need for Rule

The Coast Guard is issuing this temporary rule under authority in 33 U.S.C. 499. The FEC Railroad Bridge across the Okeechobee Waterway, mile 7.41, at Stuart, FL, is a single-leaf bascule bridge with a six-foot vertical clearance at mean high water in the closed position. The normal operating schedule for the bridge is found in 33 CFR 117.317(c).

The regular drawbridge regulation, 33 CFR 117.317(c), states that the draw is normally in the fully open position when a train approaches the bridge the draw lowers and locks and remains down for a period of eight minutes or while the approach track circuit is occupied. The Coast Guard has determined that allowing the drawbridge to return to its regular operating schedule would not meet the reasonable needs of navigation given the increase in railway traffic. The regular operating schedule does not provide predictable and reliable drawbridge openings. The Coast Guard needs sufficient time to review and mitigate comments and other documentation, while providing continuity in the operation of the drawbridge.

IV. Discussion of Comments, Changes, and the Rule

This rule extends the effective period of the temporary deviation to the drawbridge operation regulation for the FEC Railroad Bridge for an additional four months until September 30, 2025. This temporary rule allows continuity in drawbridge operations providing predictable and reliable drawbridge openings. We list the temporary drawbridge schedule at the end of this rule in the regulatory text.

If a final rule is published before September 30, 2025, this temporary final rule will be cancelled.

V. Regulatory Analyses

We developed this temporary rule after considering numerous statutes and Executive orders related to rulemaking. Below we summarize our analyses based on a number of these statutes and Executive orders.

A. Regulatory Planning and Review

Executive Orders 12866 and 13563 direct agencies to assess the costs and benefits of available regulatory alternatives and, if regulation is necessary, to select regulatory approaches that maximize net benefits. This rule has not been designated a “significant regulatory action,” under Executive Order 12866. Accordingly, it has not been reviewed by the Office of Management and Budget (OMB).

This regulatory action determination is based on the fact that little or no commercial or recreational vessel traffic will be impacted by this rule. Furthermore, the drawbridge, as of date of the publication of this rule, cannot resume its regular operating schedule as it does not meet the reasonable needs of navigation given the increase in railway traffic. The regular operating schedule does not provide predictable and reliable drawbridge openings.

B. Impact on Small Entities

The Regulatory Flexibility Act of 1980 (RFA), 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this rule will not have a significant economic impact on a substantial number of small entities.

While some owners or operators of vessels intending to transit the bridge may be small entities, for the reasons stated in section V.A above, this rule will not have a significant economic impact on any vessel owner or operator.

Under section 213(a) of the Small Business Regulatory Enforcement Fairness Act of 1996 (Pub. L. 104-121), we want to assist small entities in understanding this rule. If the rule would affect your small business, organization, or governmental jurisdiction and you have questions concerning its provisions or options for compliance, please contact the person listed in the FOR FURTHER INFORMATION CONTACT section.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

C. Collection of Information

This rule calls for no new collection of information under the Paperwork Reduction Act of 1995 (44 U.S.C. 3501-3520).

D. Federalism and Indian Tribal Government

A rule has implications for federalism under Executive Order 13132, Federalism, if it has a substantial direct effect on the States, on the relationship between the National Government and the States, or on the distribution of power and responsibilities among the various levels of government. We have analyzed this rule under that order and have determined that it is consistent with the fundamental federalism principles and preemption requirements described in Executive Order 13132.

Also, this rule does not have tribal implications under Executive Order 13175, Consultation and Coordination with Indian Tribal Governments, because it does not have a substantial direct effect on one or more Indian tribes, on the relationship between the Federal Government and Indian tribes, or on the distribution of power and responsibilities between the Federal Government and Indian tribes.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

F. Environment

We have analyzed this rule under Department of Homeland Security Management Directive 023-01, Rev.1, associated implementing instructions, and Environmental Planning Policy COMDTINST 5090.1 (series) which guide the Coast Guard in complying with the National Environmental Policy Act of 1969 (NEPA) (42 U.S.C. 4321-4370f). The Coast Guard has determined that this action is one of a category of actions that do not individually or cumulatively have a significant effect on the human environment. This rule promulgates the operating regulations or procedures for drawbridges and is categorically excluded from further review, under paragraph L49, of Chapter 3, Table 3-1 of Appendix A, Table 1 of DHS Instruction Manual 023-01-001-01, Rev. 1.

Neither a Record of Environmental Consideration nor a Memorandum for the Record are required for this rule.

List of Subjects in 33 CFR Part 117

Bridges.

For the reasons discussed in the preamble, the Coast Guard amends 33 CFR part 117 as follows:

PART 117—DRAWBRIDGE OPERATION REGULATIONS

1. The authority citation for part 117 continues to read as follows:

Authority: 33 U.S.C. 499; 33 CFR 1.05-1; and DHS Delegation No. 00170.1, Revision No. 01.3.

2. Section 117.317 is amended by:

a. Staying paragraph (c); and

b. Adding paragraph (k).

The addition reads as follows:

§ 117.317 Okeechobee Waterway.

* * * * *

(k) Florida East Coast Railroad (FEC) Bridge, mile 7.41, at Stuart. The draw shall operate as follows:

(1) The drawbridge will be maintained in the fully open-to-navigation position, except during periods when it is closed for the passage of train traffic, to conduct inspections, and to perform maintenance and repairs authorized by the Coast Guard.

(2) The drawbridge will not be closed for more than 50 consecutive minutes in any given hour during daytime operations (6 a.m. to 8 p.m.) and for more than 7 total hours during daytime operations (6 a.m. to 8 p.m.).

(3) Notwithstanding paragraph (k)(1) of this section, the drawbridge will open and remain open to navigation for a fixed 10-minute period at the top of each hour from 6 a.m. to 8 p.m.

(4) From 8:01 p.m. until 5:59 a.m. daily, the drawbridge will remain in the fully open-to-navigation position, except during periods when it is closed for the passage of train traffic, to conduct inspections, and to perform maintenance and repairs authorized by the Coast Guard. The drawbridge will not be closed more than 60 consecutive minutes.

(5) If a train is in the track circuit at the start of a fixed opening period, the opening may be delayed up to, but not more than, five minutes. Once the train has cleared the circuit, the bridge must open immediately for navigation to begin the fixed opening period.

(6) The drawbridge will be tended from 6 a.m. to 8 p.m., daily. The bridge tender will monitor VHF-FM channels 9 and 16 and will provide estimated times of drawbridge openings and closures, or any operational information requested. Operational information will be provided 24 hours a day by telephone at (772) 403-1005.

(7) The drawbridge owner will maintain a mobile application. The drawbridge owner will publish drawbridge opening times, and the drawbridge owner will provide timely updates to schedules, including but not limited to, impacts due to emergency circumstances, inspections, maintenance, and repairs authorized by the Coast Guard.

(8) Signs will be posted and visible to marine traffic, displaying VHF radio contact information, application information, and the telephone number for the bridge tender.

(9) A copy of the drawbridge logbook for the previous week will be provided to the Seventh Coast Guard District Bridge Manager by 4 p.m. each Monday.

* * * * *

Dated: May 13, 2025.
Douglas M. Schofield,
Rear Admiral, U.S. Coast Guard, Commander, Coast Guard Seventh District.

[FR Doc. 2025-08888 Filed 5-16-25; 8:45 am]

BILLING CODE 9110-04-P